DEPARTMENT OF THE TREASURY

Fiscal Service

31 CFR Part 356

[Docket No. Fiscal-BPD-2013-0001]

Sale and Issue of Marketable Book-Entry Treasury Bills, Notes, and Bonds

Correction

In rule document C1-2013-18178 appearing on page 50335 in the issue of August 19, 2013, make the following correction:

Appendix B to Part 356 [Corrected]

1. On page 50335, in the third column, amendatory instruction 9 should read as set forth below:

“9. On page 46443, in the second column, the tenth line above Table 4, “Ti-1 and T1” should read ‘Ti-1 and Ti.’ ”

[FR Doc. C2-2013-18178 Filed 8-26-13; 8:45 am]

BILLING CODE 1505-01-D